DEPARTMENT OF HEALTH AND HUMAN SERVICES

Administration for Children and Families

[CFDA NUMBER: 93.670]

Announcement of the Award of a Single-Source Replacement Grant to the University of Colorado Denver, Kempe Center for the Prevention and Treatment of Child Abuse & Neglect

AGENCY: Children's Bureau, ACF, HHS.

ACTION: Announcement of the award of a single-source replacement grant to the University of Colorado Denver, Kempe Center for the Prevention and Treatment of Child Abuse & Neglect.

SUMMARY: The Administration for Children and Families, Administration on Children, Youth and Families, Children's Bureau (CB) awarded the National Quality Improvement Center on Differential Response (QIC-DR) cooperative agreement to the American Humane Association on September 30, 2008. On April 13, 2012, the American Humane Association submitted a letter relinquishing its grant effective June 30, 2012. The University of Colorado, Kempe Center for the Prevention and Treatment of Child Abuse & Neglect (Kempe Center), Denver, CO, an eligible organization, submitted its letter along with its grant application requesting approval as the replacement grantee for the QIC-DR grant. CB has received and reviewed the application from the Kempe Center. For the remainder of the project period listed below, this organization has been awarded funds in the amount of $3,028,694 as the permanent replacement grantee.

DATES: This project period is from July 1, 2012, through September 29, 2013.

FOR FURTHER INFORMATION CONTACT: Dori Sneddon, Child Welfare Program Specialist, Office on Child Abuse and Neglect, Children's Bureau, 1250 Maryland Avenue SW., Washington, DC 20024. Telephone: 202-205-8024; Email: Dori.Sneddon@acf.hhs.gov.

SUPPLEMENTARY INFORMATION: The National Quality Improvement Center on Differential Response in Child Protective Services (QIC-DR) is a five-year project to generate and disseminate new knowledge about differential response practices and strategies in child protective service systems. QIC-DR has three primary goals: (1) Design and conduct evaluation, to rigorously study implementation, outcomes and cost impact of differential response in research and demonstration sites; (2) Learn if differential response is an effective approach in CPS; and (3) Build cutting-edge, innovative and replicable knowledge about differential response, including guidance on best practices in differential response.

Statutory Authority: Section 105 of the Child Abuse Prevention and Treatment Act, as amended (42 U.S.C. Section 5106).

Bryan Samuels,
Commissioner, Administration on Children, Youth and Families.

[FR Doc. 2012-26079 Filed 10-22-12; 8:45 am]

BILLING CODE 4184-01-P